DEPARTMENT OF HEALTH AND HUMAN SERVICES

Health Resources and Services Administration

Statement of Organization, Functions and Delegations of Authority

This notice amends Part R of the Statement of Organization, Functions and Delegations of Authority of the Department of Health and Human Services (DHHS), Health Resources and Services Administration (HRSA) (60 FR 56605, as amended November 6, 1995; 67 FR 46519, July 15, 2002; 68 FR 787-793, January 7, 2003; 68 FR 8515-8517, February 21, 2003; 68 FR 64357-64358, November 13, 2003; 69 FR 56433-56445, September 21, 2004; as last amended at 70 FR 19962-19963, April 15, 2005). This Order of Succession supersedes the Order of Succession for the Administrator, HRSA, published at FR 70 19962-19963, April 15, 2005.

This notice updates changes to HRSA's hierarchy affecting the Office of the Administrator; Deputy Administrator; Senior Advisor to the Administrator, Chief Financial Officer; Bureau of Primary Health Care; Office of Management; Bureau of Health Professions; HIV/AIDS Bureau; Maternal and Child Health Bureau; Bureau of Clinician Recruitment and Service; Healthcare Systems Bureau; and Office of Performance Review.

This notice is to reflect the Order of Succession for the HRSA.

Section R-30, Order of Succession

During the absence or disability of the Administrator or in the event of a vacancy in the office, the first official listed below who is available shall act as Administrator, except that during a planned period of absence, the Administrator may specify a different order of succession. The order of succession will be as such:

1. Deputy Administrator;

2. Senior Advisor to the Administrator;

3. Chief Financial Officer;

4. Associate Administrator, Bureau of Primary Health Care;

5. Associate Administrator, Office of Management;

6. Associate Administrator, Bureau of Health Professions;

7. Associate Administrator, HIV/AIDS Bureau;

8. Associate Administrator, Maternal and Child Health Bureau;

9. Associate Administrator, Bureau of Clinician Recruitment and Service;

10. Associate Administrator, Healthcare Systems Bureau; and

11. Associate Administrator, Office of Performance Review.

Section R-40, Delegation of Authority

All delegations and redelegations of authorities to officers and employees of the Health Resources and Services Administration which were in effect immediately prior to the effective date of this action will be continued in effect in them or their successors, pending further redelegation, provided they are consistent with this action.

This document is effective upon date of signature.

Dated: October 1, 2007.
Elizabeth M. Duke,
Administrator.

[FR Doc. E7-19966 Filed 10-9-07; 8:45 am]

BILLING CODE 4165-15-P